DEPARTMENT OF JUSTICE

Antitrust Division

Notice Pursuant to the National Cooperative Research and Production Act of 1993—National Armaments Consortium

Notice is hereby given that, on April 17, 2019, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Adolf Meller Co. d/b/a Meller Optics Inc., Providence, RI; Aerojet Rocketdyne Coleman Aerospace, Orlando, FL; Aleta Technologies, Inc., Huntsville, AL; All Points Logistics, LLC, Merritt Island, FL; Area-I, Inc., Kennesaw, GA; Attollo Engineering LLC, Camarillo, CA; Auburn University, Auburn, AL; Augustine Die & Mold, Inc., Somerset, PA; BAE Systems—Technology Solutions & Services Inc., Rockville, MD; Carleton Technologies, Inc. dba Cobham Mission Systems, Orchard Park, NY; COI Ceramics, Inc., San Diego, CA; ColdQuanta, Inc., Boulder, CO; Cruz Associates, Inc., Yorktown, VA; Eastern Research Group, Inc. (ERG), Lexington, MA; ExoAnalytic Solutions, Inc., Foothill Ranch, CA; Fischer Custom Communications, Inc., Torrance, CA; Flyer Defense, LLC, Los Angeles, CA; Gleason Research Associates Incorporated, Huntsville, AL; Great Lakes Sound and Vibration, Inc., Houghton, MI; Harris Corporation—Space and Intelligence Systems, Rochester, NY; HDT Expeditionary Systems, Inc., Fredericksburg, VA; Innovative Defense Technologies, Arlington, VA; Insight Engineering Solutions, Townsend, DR; Integrity Applications Inc. (IAI), Chantilly, VA; IOMAX USA, Inc., Mooresville, NC; IQ-Analog, San Diego, CA; Israel Military Industries Services USA Inc., Bethesda, MD; Johnson Technology Systems, Inc., Dover, NJ; Keysight Technologies, Inc., Santa Rosa, CA; Kyma Technologies, Inc., Raleigh, NC; Lehigh University, Bethlehem, PA; Luna Innovations Incorporated, Roanoke, VA; LUXUS ARMS LLC, Mount Orab, OH; M.S.M. Industries, Inc., Riverside, CA; ManTech Advanced Systems International, Inc., Herndon, VA; Maxtek Components Corporation, Beaverton, OR; Mechanical Solutions, Inc., Whippany, NJ; nLogic, LLC, Huntsville, AL; Open Chamber Systems, LLC, Enola, PA; Optical Sciences Corporation, Huntsville, AL; Paragon Research Corporation, Huntsville, AL; Penta Research Incorporated, Huntsville, AL; Precision Products, Inc., Dalton, GA; Problem Solutions, LLC, Johnstown, PA; Qualis Corporation, Huntsville, AL; Quantum Research International, Inc., Huntsville, AL; Raven Defense Corporation, Albuquerque, NM; Rayn Innovations, LLC, Tempe, AZ; Science and Engineering Services, LLC, Huntsville, AL; Scientific Research Corporation, Atlanta, GA; SciTec, Inc., Princeton, NJ; Selex Galileo Inc., Arlington, VA; Spirit AeroSystems, Inc., Wichita, KS; Stellar Exploration, Inc., San Luis Obispo, CA; Stevens Engineering Solutions LLC, Short Hills, NJ; Technology Service Corporation—California, Los Angeles, CA; Technology Service Corporation—Connecticut, Trumbull, CT; Tiburon Associates, Inc., Grand Rapids, MI; Unconventional Concepts, Inc., Fort Walton Beach, FL; and Verity Integrated Systems, Inc., Huntsville, AL, have been added as parties to this venture.

Also, Electronics & Manufacturing Co., LLC, Columbia, MO and MS Technology, Inc., Oak Ridge, TN, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on January 30, 2019. A notice was published in the Federal Register pursuant to Section 6(b) of the Act on February 12, 2019 (84 FR 3493).

Suzanne Morris,
Chief, Premerger and Division Statistics Unit, Antitrust Division.

[FR Doc. 2019-10328 Filed 5-16-19; 8:45 am]

BILLING CODE 4410-11-P